DEPARTMENT OF ENERGY

Federal Energy Regulatory Commission

[Docket No. IC15-2-000]

Commission Information Collection Activities: FERC-65, FERC-65A, FERC-65B, FERC-585, and FERC-921; Consolidated Comment Request; Extension

AGENCY: Federal Energy Regulatory Commission, Energy.

ACTION: Notice of information collections and request for comments.

SUMMARY: In compliance with the requirements of the Paperwork Reduction Act of 1995, 44 U.S.C. 3506(c)(2)(A), the Federal Energy Regulatory Commission (Commission or FERC) is soliciting public comment on the requirements and burden ¹ of the information collections described below. Please note that this is the first time FERC has issued a consolidated notice involving otherwise unrelated information collections.

¹ The Commission defines burden as the total time, effort, or financial resources expended by persons to generate, maintain, retain, or disclose or provide information to or for a Federal agency. For further explanation of what is included in the information collection burden, reference 5 Code of Federal Regulations 1320.3.

DATES: Comments on the collections of information are due March 17, 2015.

ADDRESSES: You may submit comments (identified by Docket No. IC15-2-000) by either of the following methods:

• eFiling at Commission's Web site: http://www.ferc.gov/docs-filing/efiling.asp.

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-65 (Notice of Holding Company Status), FERC-65A (Exemption Notification of Holding Company Status), and FERC-65B (Waiver Notification of Holding Company Status)

OMB Control No.: 1902-0218.

Abstract: Pursuant to Section 366.4 of the Commission's rules and regulations, persons who meet the definition of a holding company shall provide the Commission notification of holding company status.

The FERC-65 is a one-time informational filing outlined in the Commission's regulations at 18 Code of Federal Regulations (CFR) 366.4. The FERC-65 must be submitted within 30 days of becoming a holding company². While the Commission does not require the information to be reported in a specific format, the filing needs to consist of the name of the holding company, the name of public utilities, the name of natural gas companies in the holding company system, and the names of service companies. In addition, the Commission requires the filing to include the names of special-purpose subsidiaries (which provide non-power goods and services) and the names of all affiliates and subsidiaries (and their corporate interrelationship) to each other. Filings may be submitted in hardcopy or electronically through the Commission's eFiling system.

² Persons that meet the definition of a holding company as provided by § 366.1 as of February 8, 2006 shall notify the Commission of their status as a holding company no later than June 15, 2006. Holding companies formed after February 8, 2006 shall notify the Commission of their status as a holding company, no later than the latter of June 15, 2006 or 30 days after they become holding companies.

FERC-65A (Exemption Notification of Holding Company Status)

While noting the previously outlined requirements of the FERC-65, the Commission has allowed for an exemption from the requirement of providing the Commission with a FERC-65 if the books, accounts, memoranda, and other records of any person are not relevant to the jurisdictional rates of a public utility or natural gas company; or if any class of transactions is not relevant to the jurisdictional rates of a public utility or natural gas company. Persons seeking this exemption file the FERC-65A, which must include a form of notice suitable for publication in the Federal Register. Those who file a FERC-65A in good faith will have a temporary exemption upon filing, after 60 days if the Commission has taken no action, the exemption will be deemed granted. Commission regulations within 18 CFR 366.3 describe the criteria in more specificity.

FERC-65B (Waiver Notification of Holding Company Status)

If an entity meets the requirements in 18 CFR 366.3(c), they may file a FERC-65B waiver notification pursuant to the procedures outlined in 18 CFR 366.4. Specifically, the Commission waives the requirement of providing it with a FERC-65 for any holding company with respect to one or more of the following: (1) Single-state holding company systems; (2) holding companies that own generating facilities that total 100 MW or less in size and are used fundamentally for their own load or for sales to affiliated end-users; or (3) investors in independent transmission-only companies. Filings may be made in hardcopy or electronically through the Commission's Web site.

Type of Respondent: Public utility companies, natural gas companies, electric wholesale generators, foreign utility holding companies.

Estimate of Annual Burden: The Commission estimates the annual public reporting burden for the information collection as:

FERC-65 (Notification of Holding Company Status), FERC-65A (Exemption Notification of Holding Company Status), and FERC-65B (Waiver Notification of Holding Company Status)
| Number of respondents | Annual number of responses per respondent | Total number of responses | Average burden & cost per response ³ | Total annual burden hours & total annual cost | Cost per respondent ($)
| (1) | (2) | (1)*(2)=(3) | (4) | (3)*(4)=(5) | (5)÷(1)
FERC-65 | 8 | 1 | 8 | 3, $216 | 24, $1728 | 216
FERC-65A | 1 | 1 | 1 | 1, $72 | 1, $72 | 72
FERC-65B | 0 | 1 | 0 | 1, $72 | 0, $0 | 0
Total |  |  | 9 |  | 25, $1,800 |

FERC-585 (Reporting of Electric Shortages and Contingency Plans Under PURPA 206)

³ The estimates for cost per response are derived using the following formula: Average Burden Hours per Response * 70.50 per Hour = Average Cost per Response. The Cost per hour figure is the 2015 FERC average salary plus benefits.

OMB Control No.: 1902-0138.

Abstract: The information collected under the requirements of FERC-585, “Reporting of Electric Energy Shortages and Contingency Plans under PURPA”, is used by the Commission to implement the statutory provisions of section 206 of the Public Utility Regulatory Policies Act of 1979 (PURPA) Public Law 95-617, 92 Stat. 3117. Section 206 of PURPA amended the Federal Power Act (FPA) by adding a new subsection (g) to section 202, under which the Commission by rule, was to require each public utility to (1) report to the Commission and appropriate state regulatory authorities of any anticipated shortages of electric energy or capacity which would affect the utility's capability to serve its wholesale customers; and (2) report to the Commission and any appropriate state regulatory authority contingency plan that would outline what circumstances might give rise to such occurrences.

In Order No. 575,⁴ the Commission modified the reporting requirements in 18 CFR 294.101(b) to provide that, if a public utility includes in its rates schedule, provisions that: (a) During electric energy and capacity shortages it will treat firm power wholesale customers without undue discrimination or preference; and (b) it will report any modifications to its contingency plan for accommodating shortages within 15 days to the appropriate state regulatory agency and to the affected wholesale customers, then the utility need not file with the Commission an additional statement of contingency plan for accommodating such shortages. This revision merely changed the reporting mechanism; the public utility's contingency plan would be located in its filed rate rather than in a separate document.

⁴ 60 FR 4859 (25 Jan 1995).

In Order No. 659,⁵ the Commission modified the reporting requirements in 18 CFR 294.101(e) to provide that the means by which public utilities must comply with the requirements to report shortages and anticipated shortages is to submit this information electronically using the Office of Electric Reliability's pager system at emergency@ferc.gov in lieu of submitting an original and two copies with the Secretary of the Commission.

⁵ 70 FR 35028 (16 Jun 2005).

The Commission uses the information to evaluate and formulate an appropriate option for action in the event an unanticipated shortage is reported and/or materializes. Without this information, the Commission and State agencies would be unable to: (1) examine and approve or modify utility actions, (2) prepare a response to anticipated disruptions in electric energy, and (3) ensure equitable treatment of all public utility customers under the shortage situations. The Commission implements these filing requirements in the Code of Federal Regulations (CFR) under 18 CFR part 294.

Type of Respondent: Public utilities.

Estimate of Annual Burden: The Commission estimates the annual public reporting burden for the information collection as:

FERC-585 (Reporting of Electric Shortages and Contingency Plans Under PURPA 206)
| Number of respondents | Annual number of responses per respondent | Total number of responses | Average burden & cost per response ³ | Total annual burden hours & total annual cost | Cost per respondent ($)
| (1) | (2) | (1)*(2)=(3) | (4) | (3)*(4)=(5) | (5)÷(1)
Contingency Plan | 1 | 1 | 1 | 73, $5,256 | 73, $5,256 | 5,256
Capacity Shortage | 1 | 1 | 1 | 0.25, $18 | 0.25, $18 | 18
Total |  |  |  |  | 73.25, $5,274 | 5,274

FERC-921 (Ongoing Electronic Delivery of Data From Regional Transmission Organization and Independent System Operators)

OMB Control No.: 1902-0257.

Abstract: The collection of data in the FERC-921 is an effort by the Commission to detect potential anti-competitive or manipulative behavior or ineffective market rules by requiring Regional Transmission Organizations (RTO) and Independent System Operators (ISO) ⁶ to electronically submit, on a continuous basis, data relating to physical and virtual offers and bids, market awards, resource outputs, marginal cost estimates, shift factors, financial transmission rights, internal bilateral contracts, uplift, and interchange pricing. Individual datasets that the Commission is requesting may be produced or retained by the market monitoring units (MMUs). The Commission directed each RTO and ISO either to: (1) Request such data from its MMU, so that the RTO or ISO can deliver such data to the Commission; or (2) request its MMU to deliver such data directly to the Commission. Any burden associated with the delivery of such data is counted as burden on the RTO or ISO.

⁶ Per Final Rule RM-11-17-000 regionally organized markets would not be required to collect any additional data from market participants; requiring regional organized markets to provide data to the Commission that is already collected.

Type of Respondent: Regional transmission organizations and independent system operators.

Estimate of Annual Burden: The Commission estimates the annual public reporting burden for the information collection as:

⁷ The estimates for cost per response are derived using the following formula: Average Burden Hours per Response * $100.30 per Hour = Average Cost per Response.

FERC-921 (Ongoing Electronic Delivery of Data from Regional Transmission Organizations and Independent System Operators)
Number of respondents | Annual number of responses per respondent | Total number of responses | Average burden & cost per response ⁷ | Total annual recurring operating burden hours & cost | Cost per respondent ($)
(1) | (2) | (1)*(2)=(3) | (4) | (3)*(4)=(5) | (5)÷(1)
6 | 1 | 6 | 98, $9,830 | 588, $58,980 | $9,830

Dated: January 9, 2015.
Kimberly D. Bose,
Secretary.

[FR Doc. 2015-00573 Filed 1-15-15; 8:45 am]

BILLING CODE 6717-01-P